DEPARTMENT OF AGRICULTURE

Animal and Plant Health Inspection Service

7 CFR Part 319

[Docket No. APHIS-2015-0051]

RIN 0579-AE20

Importation of Lemons From Chile Into the Continental United States

AGENCY: Animal and Plant Health Inspection Service, USDA.

ACTION: Proposed rule; reopening of comment period.

SUMMARY: We are reopening the comment period for our proposed rule that would amend the fruits and vegetables regulations to list lemon (Citrus limon (L.) Burm. f.) from Chile as eligible for importation into the continental United States subject to a systems approach. This action will allow interested persons additional time to prepare and submit comments.

DATES: The comment period for the proposed rule published on April 4, 2016 (81 FR 19063) is reopened. We will consider all comments that we receive on or before September 26, 2016.

ADDRESSES: You may submit comments by either of the following methods:

• Federal eRulemaking Portal: Go to http://www.regulations.gov/#!docketDetail;D=APHIS-2015-0051.

• Postal Mail/Commercial Delivery: Send your comment to Docket No. APHIS-2015-0051, Regulatory Analysis and Development, PPD, APHIS, Station 3A-03.8, 4700 River Road Unit 118, Riverdale, MD 20737-1238.

Supporting documents and any comments we receive on this docket may be viewed at http://www.regulations.gov/#!docketDetail;D=APHIS-2015-0051 or in our reading room, which is located in Room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Mr. George Balady, Senior Regulatory Policy Specialist, Regulatory Coordination and Compliance, Plant Health Programs, PPQ, APHIS, 4700 River Road Unit 133, Riverdale, MD 20737; (301) 851-2240.

SUPPLEMENTARY INFORMATION: On April 4, 2016, we published in the Federal Register (81 FR 19063, Docket No. APHIS-2015-0051) a proposal to the fruits and vegetables regulations to list lemon (Citrus limon (L.) Burm. f.) from Chile as eligible for importation into the continental United States subject to a systems approach.

Our review of the information supporting the safe importation into the United States of citrus from Chile under the listed phytosanitary measures is examined in a commodity import evaluation document (CIED) titled “Importation of Fresh Lemons (Citrus limon (L.) Burm. F.), from Chile into the Continental United States Using a Systems Approach.” The CIED was based on a pathway-initiated risk assessment (PRA), titled “Importation of Fresh Lemons (Citrus limon (L.) Burm. f.) from Chile into the Continental United States.” The draft PRA was made available for review and comment on the APHIS Web page in 2014. However, we did not make the PRA available with the proposed rule for further review and comment. A commenter on the proposed rule asked that we make the PRA available again. In response to this comment we are making the PRA available for review and reopening the comment period. Copies of the CIED and PRA may be obtained from the person listed under FOR FURTHER INFORMATION CONTACT or viewed on the Regulations.gov Web site or in our reading room (see ADDRESSES above for a link to Regulations.gov and information on the location and hours of the reading room).

Comments on the proposed rule were required to be received on or before June 3, 2016. We are reopening the comment period on Docket No. APHIS-2015-0051 for an additional 30 days. We will also consider all comments received between June 4, 2016, and the date of this notice. This action will allow interested persons additional time to prepare and submit comments.

Authority: 7 U.S.C. 450, 7701-7772, and 7781-7786; 21 U.S.C. 136 and 136a; 7 CFR 2.22, 2.80, and 371.3.

Done in Washington, DC, this 22nd day of August 2016.
Kevin Shea,
Administrator, Animal and Plant Health Inspection Service.

[FR Doc. 2016-20506 Filed 8-25-16; 8:45 am]

BILLING CODE 3410-34-P